ENVIRONMENTAL PROTECTION AGENCY

[FRL-7583-2]

Request for Applications, Ecology and Oceanography of Harmful Algal Blooms Program

AGENCY: Environmental Protection Agency (EPA).

ACTION: Notice of financial assistance for project assistance.

SUMMARY: The purpose of this notice is to advise the public that the participating agencies are soliciting individual research proposals of up to 3 years duration, and depending on appropriations, multi-disciplinary regional studies of 3 to 5 years duration for the Ecology and Oceanography of Harmful Algal Blooms (ECOHAB) program. This program provides support for research on algal species whose populations may cause or result in deleterious effects on ecosystems and human health. Studies of the causes of such blooms, their detection, effects, mitigation, and control in U.S. coastal waters (including estuaries and Great Lakes) are solicited. This document details the requirements for applications for research support that will be considered by the Federal research partnership. The complete program announcement can be accessed on the Internet at http://es.epa.gov/ncer/rfa/ under “Science To Achieve Results (STAR) Research Grants”.

DATES: The deadline for applications is January 28, 2004 by 4 EST.

ADDRESSES: Submit the original and eighteen copies of your proposal to the Coastal Ocean Program Office, N/SCI2, SSMC#4, 8th Floor, Room 8243, 1305 East-West Highway, Silver Spring, MD 20910. The required forms for applications with instructions are accessible on the Internet at http://es.epa.gov/ncerqa/rfa/forms/downlf.html. Forms may be printed from this site.

Awards: Final selection of awardees by the participating agencies will be determined on the basis of peer and panel recommendations, applicability of the proposed effort to the interests of an agency, and the availability of funds. It is anticipated that each award will be made and be administered by a single agency; however, in the case of multi-institutional projects, two or more agencies may provide assistance. In the latter case, each agency may provide funding for an individual project component and/or institution. Applications recommended for funding will require additional certifications, possibly a revised budget, responses to any comments or suggestions offered by the reviewers, and an electronic version of the revised project abstract. Awards will be subject to the terms and conditions of the sponsoring agency.

FOR FURTHER INFORMATION CONTACT: Technical Information: Quay Dortch, ECOHAB Coordinator, CSCOR/COP Office, 301-713-3338/ext 157, e-mail: quay.dortch@noaa.gov. Administrative Information: Gina Perovich, EPA/NCER, 202-564-2248, e-mail: perovich.gina@epa.gov.

SUPPLEMENTARY INFORMATION:

Program Goals and Topic Areas

The National Center for Environmental Research/Environmental Protection Agency (EPA); the Coastal Ocean Program and the Office of Protected Resources/National Oceanic and Atmospheric Administration (NOAA)/Department of Commerce; the Directorate for Geosciences, Division of Ocean Sciences/National Science Foundation (NSF); the Office of Naval Research (ONR)/Department of Defense; and the Office of Earth Science/National Aeronautics Space Administration (NASA) are cooperating in an opportunity for investigators to propose activities to address fundamental ecological and oceanographic questions related to the national harmful algal bloom (HAB) problem.

This announcement provides an opportunity for investigators to propose activities that address areas in the national problem of harmful algal blooms. The primary goal of this interagency program is to provide support for projects that are part of an integrated national effort to address HAB problems. Thus, ECOHAB will consider support for projects ranging from relatively small targeted laboratory or field studies by individual investigators or small teams, to regional studies involving larger teams of investigators conducting coordinated, well-integrated multi-disciplinary field programs.

All studies should address fundamental ecological and oceanographic questions related to HABs. Additionally, larger, regionally focused studies should attempt to determine the linkages between HAB species and their surrounding environments. Modeling efforts should be an integral part of these larger studies and these applications should also identify potential user communities for models and results. Investigators are encouraged to list specific management needs identified in the regional community, document the management sources, and also document how research results will meet those needs.

ECOHAB agencies will consider a wide range of studies for support. Examples of topic areas for proposed projects are provided in the complete announcement (see the SUMMARY in this announcement).

ECOHAB will support projects ranging from laboratory studies by individual investigators or small teams, up to larger teams of investigators conducting coordinated, well-integrated, multi-disciplinary regional field studies or cross-regional comparative studies. For individuals and small teams, support may be requested for 1-3 years duration. Projects focused on multi-disciplinary regional studies may request support for 3 to 5 years duration. However, the size and duration of the latter studies are dependent on appropriations, and potential applicants must obtain permission from the ECOHAB Coordinator (see CONTACTS in this announcement) to submit a regional or cross-regional study.

Eligibility: Institutions of higher education and not-for-profit institutions located in the U.S., and State or local governments, are eligible under all existing authorizations. Some participating agencies are authorized to make awards to international institutions, and commercial organizations located in the U.S. Federal agencies and laboratories are eligible if they can produce certifications or documentation which clearly show that they have specific legal authority to receive funds from another Federal agency in excess of their appropriations. Funding for salaries of full time Federal employees will not be allowed. Applications from non-Federal and Federal applicants will be evaluated under the same review/selection process. Proposals from non-Federal applicants that are selected for funding will be funded through a project grant or cooperative agreement under the terms of this announcement. Proposals from Federal agencies or laboratories deemed acceptable and selected for funding will be funded through a medium other than a grant or cooperative agreement, such as inter- or intra-agency transfers, where legal authority exists for such funding. Note that this announcement is not proposing to procure goods and services from Federal applicants; therefore the Economy Act (31 U.S.C. 1535) is not an appropriate legal basis.

How to Apply: The original and eighteen (18) copies of the fully developed application (19 in all) and one (1) additional copy of the abstract, prepared in accordance with the full announcement, must be received by NOAA no later than 4 p.m. Eastern Time on the closing date, January 28, 2004.

Program Authorities: For COP: 33 U.S.C. 883d and Pub. L. 105-383; for Office of Protected Resources/NOAA: 16 U.S.C. 1382 and 16 U.S.C. 1421a; EPA: 33 U.S.C 1251 et seq. and 40 CFR parts 30 and 40; for NSF: 42 U.S.C. 1861 et seq.; for ONR: 10 U.S.C 2358 as amended and 31 U.S.C 6304; and for NASA: 14 CFR part 1260.

Catalog of Federal Domestic Assistance (CFDA) Numbers. 11.478 for the Coastal Ocean Program; 11.472 for NOAA/Office of Protected Resources; 66.509 for the Environmental Protection Agency; 47.050 for the National Science Foundation, and 12.300 for the Office of Naval Research.

Dated: October 27, 2003.
John C. Puzak,
Acting Director, National Center for Environmental Research .

[FR Doc. 03-27674 Filed 11-3-03; 8:45 am]

BILLING CODE 6560-50-P